DEPARTMENT OF TRANSPORTATION

Office of the Secretary

Aviation Proceedings

Aviation Proceedings, Agreements filed during week ending September 21, 2001. The following Agreements were filed with the Department of Transportation under provisions of 49 U.S.C. Sections 412 and 414. Answers may be filed within 21 days after the filing of the applications.

Docket Number: OST-2001-10645.

Date Filed: September 18, 2001.

Parties: Members of the International Air Transport Association.

Subject: PTC COMP 0864 dated 18 September 2001 Mail Vote 145—Resolution 015n TC12 and TC123 North Atlantic USA Add-On Amounts (Amending) Intended Effective Date: 1 November 2001

Andrea M. Jenkins,
Federal Register Liaison.

[FR Doc. 01-25351 Filed 10-9-01; 8:45 am]

BILLING CODE 4910-62-P